DEPARTMENT OF DEFENSE

GENERAL SERVICES ADMINISTRATION

NATIONAL AERONAUTICS AND SPACE ADMINISTRATION

48 CFR Chapter 1

Federal Acquisition Circular 2001-03; Introduction

AGENCIES: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council in this Federal Acquisition Circular (FAC) 2001-03. A companion document, the Small Entity Compliance Guide (SECG), follows this FAC. The FAC, including the SECG, is available via the Internet at http://www.arnet.gov/far.

DATES: For effective dates and comment dates, see separate documents which follow.

FOR FURTHER INFORMATION CONTACT: The FAR Secretariat, Room 4035, GS Building, Washington, DC 20405, (202) 501-4755, for information pertaining to status or publication schedules. For clarification of content, contact the analyst whose name appears in the table below in relation to each FAR case or subject area. Please cite FAC 2001-03 and specific FAR case number(s). Interested parties may also visit our Web site at http://www.arnet.gov/far.

Item | Subject | FAR case | Analyst
I | Contractor Responsibility, Labor Relations Costs, and Costs Relating to Legal and Other Proceedings | 1999-010 (Stay) | De Stefano.
II | Contractor Responsibility, Labor Relations Costs, and Costs Relating to Legal and Other Proceedings—Revocation | 2001-014 | De Stefano.

SUPPLEMENTARY INFORMATION: Summaries for each FAR rule follow. For the actual revisions and/or amendments to these FAR cases, refer to the specific item number and subject set forth in the documents following these item summaries.

FAC 2001-03 amends the FAR as specified below:

Item I—Contractor Responsibility, Labor Relations Costs, and Costs Relating to Legal and Other Proceedings (FAR Case 1999-010 (Stay))

The Federal Acquisition Regulatory Council (FAR Council) published in the Federal Register at 65 FR 80255, December 20, 2000, a final rule addressing contractor responsibility and costs incurred in legal and other proceedings. After further review, the FAR Council published an interim rule in the Federal Register at 66 FR 17754, April 3, 2001, staying that rule. This final rule terminates the stay.

Item II—Contractor Responsibility, Labor Relations Costs, and Costs Relating to Legal and Other Proceedings— Revocation (FAR Case 2001-014)

The Federal Acquisition Regulatory Council (FAR Council) published in the Federal Register at 66 FR 17758, April 3, 2001, a proposed rule (April proposed rule) with a request for public comments. The April proposed rule proposed revoking a final rule published in the Federal Register at 65 FR 80255, December 20, 2000 (December final rule). The December final rule addressed responsibility and costs incurred in legal and other proceedings. This rule finalizes the April 3, 2001, proposed rule.

Dated: December 14, 2001.
Gloria M. Sochon,
Acting Director, Acquisition Policy Division.

Federal Acquisition Circular

Federal Acquisition Circular (FAC) 2001-03 is issued under the authority of the Secretary of Defense, the Administrator of General Services, and the Administrator for the National Aeronautics and Space Administration.

Unless otherwise specified, all Federal Acquisition Regulation (FAR) and other directive material contained in FAC 2001-03 is effective December 27, 2001.

Dated: December 13, 2001.

Deidre A. Lee,

Director, Defense Procurement.

Dated: December 13, 2001.

David A. Drabkin,

Deputy Associate Administrator, Office of Acquisition Policy, General Services Administration.

Dated: December 12, 2001.

Tom Luedtke,

Associate Administrator for Procurement, National Aeronautics and Space Administration.

[FR Doc. 01-31300 Filed 12-26-01; 8:45 am]

BILLING CODE 6820-EP-P